DEPARTMENT OF EDUCATION

[CFDA No. 84.358A]

Small, Rural School Achievement Program

AGENCY: Office of Elementary and Secondary Education, Department of Education.

ACTION: Notice announcing application deadline.

SUMMARY: Under the Small, Rural School Achievement (SRSA) program, we award grants on a formula basis to eligible local educational agencies (LEAs) to address the unique needs of small, rural school districts. In this notice, we establish the deadline for submission of the fiscal year (FY) 2005 SRSA grant applications.

As discussed in this notice, if an eligible LEA submitted an application for SRSA grant funds for a prior year, the LEA is considered to have met the FY 2005 application requirement based on its previously submitted application and does not have to submit a new application to the Department to receive its FY 2005 SRSA grant award.

Application Deadline: June 17, 2005, 4:30 p.m. eastern time.

SUPPLEMENTARY INFORMATION:

Which LEAs Are Eligible for An Award Under the SRSA Program?

An LEA is eligible for an award under the SRSA program if —

(a) The total number of students in average daily attendance at all of the schools served by the LEA is fewer than 600, or each county in which a school served by the LEA is located has a total population density of fewer than 10 persons per square mile; and

(b) All of the schools served by the LEA are designated with a school locale code of 7 or 8 by the Department's National Center for Education Statistics, or the Secretary has determined, based on a demonstration by the LEA and concurrence of the SEA, that the LEA is located in an area defined as rural by a governmental agency of the State.

The SRSA spreadsheets on the Department's Web site at http://www.ed.gov/programs/reapsrsa/eligibility.html identify the LEAs that meet these requirements and are eligible to participate in the SRSA program.

Which Eligible LEAs Need Not Submit an Additional Application To Receive a FY 2005 SRSA Grant Award?

Under the regulations in 34 CFR 75.104(a), the Secretary makes a grant only to an eligible party that submits an application. Given the limited purpose served by an application under this program, the Secretary considers this requirement to be met if the LEA submitted an SRSA application for any prior year, even if the LEA has not previously received SRSA funds. In this circumstance, unless the LEA advises the Secretary by the application deadline that it is withdrawing its application, the Secretary deems the application that the LEA previously submitted to remain in effect for FY 2005 funding, and the LEA does not have to submit an additional application. All other eligible LEAs must submit a new application to receive a FY 2005 grant award.

We have provided a list of LEAs eligible for FY 2005 funds on the Department's Web site at http://www.ed.gov/programs/reapsrsa/eligibility.html. The Web site also indicates which of these eligible LEAs must submit a new application to the Department to receive their FY 2005 SRSA grant award, and which eligible LEAs are considered already to have met the application requirement.

Eligible LEAs that must submit a new application in order to receive FY 2005 SRSA funding must do so electronically by the deadline established in this notice.

Electronic Submission of Applications: Unless it is listed on the Department's Web site as not required to submit a new application, an eligible LEA that seeks FY 2005 SRSA funding must submit an electronic application by June 17, 2005, 4:30 pm eastern time. Submission of an electronic application involves the use of the Department's Electronic Grant Application System (e-Application) available through the Department's e-Grants system.

You can access the electronic application for the SRSA Program at: http://e-grants.ed.gov.

Once you access this site, you will receive specific instructions regarding the information to include in your application.

The regular hours of operation of the e-Grants Web site are 6 a.m. Monday until 7 p.m. Wednesday; and 6 a.m. Thursday until midnight, Saturday (Washington, DC time). Please note that the system is unavailable on Sundays and Federal holidays.

FOR FURTHER INFORMATION CONTACT: Mr. Eric Schulz or Mr. Robert Hitchcock. Telephone: (202) 401-0039 or via Internet: reap@ed.gov.

If you use a telecommunications device for the deaf (TDD), you may call the Federal Relay Service (FRS) at 1-800-877-8339.

Individuals with disabilities may obtain this notice in an alternative format (e.g., Braille, large print, audiotape, or computer diskette) on request to the contact person listed under FOR FURTHER INFORMATION CONTACT.

Electronic Access to This Document: You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll-free, at 1-888-293-6498; or in the Washington, DC area at (202) 512-1530.

Note: The official version of this document is the document published in the Federal Register. Free Internet access to the official version of the Federal Register and the Code of Federal Regulations is available on GPO Access at: http://www.gpoaccess.gov/nara/index.html.

Program Authority: 20 U.S.C. 7345-7345b.

Dated: May 16, 2005.
Raymond Simon,
Assistant Secretary for Elementary and Secondary Education.

[FR Doc. 05-10139 Filed 5-19-05; 8:45 am]

BILLING CODE 4000-01-P